DEPARTMENT OF THE INTERIOR

Fish and Wildlife Service

[FWS-R5-R-2012-N125; BAC-4311-K9-S3]

Presquile National Wildlife Refuge, Chesterfield County, VA; Comprehensive Conservation Plan and Environmental Assessment

AGENCY: Fish and Wildlife Service, Interior.

ACTION: Notice of availability; request for comments.

SUMMARY: We, the U.S. Fish and Wildlife Service (Service), announce the availability of a draft comprehensive conservation plan (CCP) and environmental assessment (EA) for Presquile National Wildlife Refuge (NWR) for public review and comment. Presquile NWR is located in Chesterfield County, Virginia, and is administered by staff at Eastern Virginia Rivers NWR Complex. The draft CCP/EA describes two alternatives for managing Presquile NWR for the next 15 years. Alternative B is identified as the Service-preferred alternative. Also available for public review and comment are the draft compatibility determinations, which are included as appendix B in the draft CCP/EA.

DATES: To ensure consideration of your written comments, please send them by September 7, 2012. We will also hold public meetings. We will announce those meetings and other opportunities for public input in local news media, via our project mailing list, and on the refuge planning Web site: http://www.fws.gov/northeast/presquile/refuge_planning.html.

ADDRESSES: You may submit comments or requests for copies or more information by any of the following methods. You may request hard copies or a CD-ROM of the documents.

Email: EasternVirginiaRiversNWRC@fws.gov. Please include “Presquile CCP” in the subject line of the message.

U.S. Mail: Meghan Carfioli, Natural Resource Planner, U.S. Fish and Wildlife Service, 11116 Kimages Road, Charles City, VA 23030.

Fax: Attention: Meghan Carfioli, 804-829-9606.

In-Person Drop-off, Viewing, or Pickup: Call Meghan Carfioli at 804-829-5413, or Andy Hofmann, Refuge Manager, at 804-333-1470 extension 112 during regular business hours to make an appointment to view the document.

FOR FURTHER INFORMATION CONTACT: Meghan Carfioli, Natural Resource Planner, U.S. Fish and Wildlife Service; mailing address: 11116 Kimages Road, Charles City, VA 23030; 804-829-5413 (phone); 804-829-9606 (fax); EasternVirginiaRiversNWRC@fws.gov (email) (please put “Presquile NWR” in the subject line).

SUPPLEMENTARY INFORMATION:

Introduction

With this notice, we continue the CCP process for Presquile NWR. We published our original notice of intent to prepare a CCP in the Federal Register on April 14, 2011 (76 FR 21001).

The 1,329-acre Presquile NWR is an island in the James River near Hopewell, Virginia, 20 miles southeast of Richmond. It was established in 1953 as “an inviolate sanctuary, or for any other management purpose, for migratory birds.” It is one of many important migratory bird stopover sites along the Atlantic Flyway and provides protected breeding habitat for Federal and State-listed threatened and endangered species, as well as many neotropical migrant bird species. The refuge is comprised of a variety of wildlife habitats, including the open waters of the James River, tidal swamp forest, tidal freshwater marshes, grasslands, mixed mesic forest, and river escarpment.

Presquile NWR also offers a wide range of wildlife-dependent recreational opportunities, including environmental education programs for approximately 120 school-aged students each year and a 3-day deer hunt each fall.

Background

The CCP Process

The National Wildlife Refuge System Administration Act of 1966 (16 U.S.C. 668dd-668ee) (Refuge Administration Act), as amended by the National Wildlife Refuge System Improvement Act of 1997, requires us to develop a CCP for each national wildlife refuge. The purpose for developing a CCP is to provide refuge managers with a 15-year plan for achieving refuge purposes and contributing toward the mission of the National Wildlife Refuge System, consistent with sound principles of fish and wildlife management conservation, legal mandates, and our policies. In addition to outlining broad management direction on conserving wildlife and their habitats, CCPs identify wildlife-dependent recreational opportunities available to the public, including opportunities for hunting, fishing, wildlife observation and photography, and environmental education and interpretation. We will review and update the CCP at least every 15 years, in accordance with the Refuge Administration Act.

Public Outreach

In March 2011, we distributed a planning newsletter to over 160 parties on our project mailing list. The newsletter informed people about the planning process and asked recipients to contact us about issues or concerns they would like us to address. We also posted the newsletter on our Web site for people to access electronically. In addition, we notified the general public of our planning project, and our interest in hearing about issues and concerns, by publishing news releases in local newspapers. We also held afternoon and evening public scoping meetings on April 19, 2011, in Chester, Virginia, and an evening meeting on April 20, 2011, in Richmond, Virginia. The purpose of the three meetings was to share information on the planning process and to solicit management issues and concerns. Throughout the process, refuge staff have conducted additional outreach via participation in community meetings, events, and other public forums. We have considered and evaluated all of the comments we received and addressed them in various ways in the alternatives presented in the draft CCP/EA.

CCP Alternatives We Are Considering

During the scoping process, which initiated work on our draft CCP/EA, we, other governmental partners, and the public raised the following general issues that are further detailed and addressed in the draft CCP/EA:

• How will the refuge respond to potential impacts of climate change on existing refuge habitats?

• How will the refuge improve its biological integrity in light of landscape-level ecological concerns such as biological connectivity with other nearby habitats or impacts from air and noise pollution from surrounding industry?

• How will the refuge address erosion and sediment deposition issues on and adjacent to the refuge?

• How will the refuge manage invasive, nonnative, and overabundant species?

• What will the refuge do to manage approximately 200 acres of grassland habitat?

• To what extent would the refuge interpret or educate the public about cultural resources, historical landscapes, and American Indian history and culture on or around the refuge?

• What will the refuge do to improve its environmental education, interpretation, wildlife-dependent recreation, and compatible public uses?

• How does the refuge plan to accommodate an increase in visitor population while maintaining protection of sensitive fish and wildlife resources?

• To what extent will the Service use partnerships with area agencies, businesses, and organizations to achieve the refuge's resource conservation and visitation goals?

• At what levels does the Service plan to continue staffing and management of the refuge?

We developed two management alternatives in the draft CCP/EA for Presquile NWR to address these issues and to achieve the refuge's establishment purposes, and the vision and goals we developed. The alternatives identify several actions in common. Both alternatives include measures to continue to share staff across the Eastern Virginia Rivers NWR Complex, require a permit for refuge access, maintain existing facilities, control invasive species, protect cultural resources, monitor for climate change impacts, distribute refuge revenue sharing payments, support research on the refuge, and participate in conservation and education partnerships. There are other actions that differ among the alternatives. The draft CCP/EA provides a full description of both alternatives and relates each to the issues and concerns that arose during the planning process. Below, we provide summaries for the two alternatives.

Presquile NWR Alternatives

Alternative A (Current Management)

This alternative is the “no action” alternative required by the National Environmental Policy Act. Alternative A defines our current management activities, including those planned, funded, or underway, and serves as the baseline against which to compare alternative B. Under alternative A, we would continue to protect tidal swamp forest and marsh habitats for priority refuge resources of concern on the refuge, such as the bald eagle, prothonotary warbler, American black duck and other waterfowl, and the federally threatened sensitive joint-vetch. We would accomplish this through continued partnerships with universities and the Virginia Department of Game and Inland Fisheries, and by limiting public access in sensitive areas. For James River aquatic resources, we would continue to improve riparian habitat, work with the James River Association (JRA) on water quality monitoring, and support efforts by Virginia Commonwealth University and other partners to restore sustainable, healthy populations of the federally endangered Atlantic sturgeon. We would also continue to maintain approximately 200 acres of grassland habitat for breeding and migrating songbirds.

Additionally, we would continue to provide environmental education programs both on- and off-refuge in partnership with the JRA, support wildlife-dependent recreation, and implement the 3-day fall deer hunt.

Alternative B (Focus on Species of Conservation Concern; Service-preferred Alternative)

Alternative B is the Service-preferred alternative. It combines the actions we believe would best achieve the refuge's purposes, vision, and goals and respond to public issues. Under alternative B, we would emphasize the management of specific refuge habitats to support priority species whose habitat needs would benefit other species of conservation concern that are found in the area. Species of conservation concern include migrating waterfowl, waterbirds, and forest-dependent birds, the federally endangered Atlantic sturgeon, and the federally threatened sensitive joint-vetch. We would emphasize maintaining and restoring the forest integrity of tidal freshwater marsh, tidal swamp forest, the James River and associated backwater habitats, and mature mixed mesic forest habitats through increased monitoring and data collection, and a more aggressive response to habitat changes associated with invasive species, global climate change, or storm events. We would also convert 200 acres of grassland habitat to transitional mixed mesic forest habitat.

This alternative would enhance our visitor services programs to improve opportunities for environmental education and wildlife-dependent recreation. The improvements would include expanding the on-refuge environmental education program through a partnership with the JRA and enhancing interpretive materials. We would also evaluate opportunities to expand the hunting program to include turkey hunting, a 5-day hunt for deer, and a youth deer or turkey hunt.

We would also expand our conservation, research, monitoring, and management partnerships to help restore and conserve the refuge.

Public Availability of Documents

In addition to any methods in ADDRESSES, you can view or obtain documents from the agency Web site at: http://www.fws.gov/northeast/presquile/refuge_planning.html.

Next Steps

After this comment period ends, we will analyze the comments and address them in the form of a final CCP and finding of no significant impact.

Public Availability of Comments

Before including your address, phone number, email address, or other personal identifying information in your comments, you should be aware that your entire comment—including your personal identifying information—may be made publicly available at any time. While you can ask us in your comment to withhold your personal identifying information from public review, we cannot guarantee that we will be able to do so.

Dated: July 17, 2012.
Henry Chang,
Acting Regional Director, Northeast Region.

[FR Doc. 2012-19394 Filed 8-7-12; 8:45 am]

BILLING CODE 4310-55-P